DEPARTMENT OF LABOR

Veterans' Employment and Training Service

Agency Information Collection Activities; Comment Request; Eligibility Data Form: Uniformed Services Employment and Reemployment Rights Act and Veterans' Preference

ACTION: Notice; request for comments.

SUMMARY: In compliance with the Paperwork Reduction Act of 1995 (PRA), DOL is soliciting public comments regarding the proposed extension of this Office of the Assistant Secretary for Veterans' Employment and Training Service (VETS) sponsored information collection for the authority to extend the information collection request (ICR) titled, “VETS USERRA/VP/VEOA Claim Form,” This information collection is currently approved under Office of Management and Budget (OMB) Control Number 1293-0002.

DATES: Consideration will be given to all written comments received by March 27, 2026.

ADDRESSES: A copy of this ICR with applicable supporting documentation, including a description of the likely respondents, proposed frequency of response, and estimated total burden, may be obtained for free by contacting William Coughlin by email at coughlin.william.e@dol.gov.

Electronic submission: You may submit comments and attachments electronically at 1010-FRN-2026-VETS@dol.gov. Include “VETS-1010 Form” in the subject line of the message, identified by OMB Control Number 1293-0002.

Comments are invited on: (1) whether the collection of information is necessary for the proper performance of the functions of the Department, including whether the information will have practical utility; (2) Evaluate whether the proposed collection of information is necessary for the proper performance of the functions of the agency; (3) the accuracy of the agency's estimates of the burden and cost of the collection of information, including the validity of the methodology and assumptions used; (4) ways to enhance the quality, utility and clarity of the information collection; and (5) ways to minimize the burden of the collection of information on those who are to respond, including the use of automated collection techniques or other forms of information technology. Comments submitted in response to this notice will be summarized and included in the request for the Office of Management and Budget approval of the information collection request. Comments will become a matter of public record.

FOR FURTHER INFORMATION CONTACT: William Coughlin, Investigative Analyst, Compliance and Investigations, by telephone at 202-693-4715, or by email at: 1010-FRN-2026-VETS@dol.gov.

SUPPLEMENTARY INFORMATION:

Form Description: The VETS USERRA/VP/VEOA Claim Form, VETS USERRA/VP/VEOA Form 1010 (VETS-1010) is used to file complaints with the DOL VETS under either the Uniformed Services Employment and Reemployment Rights Act (USERRA) or the laws and regulations related to Veterans' Preference (VP) or the Veterans' Employment Opportunities Act (VEOA) in Federal employment. On October 13, 1994, the Uniformed Services Employment and Reemployment Rights Act (USERRA), Public Law 103-353, 108 Stat. 3150 was signed into law. The purpose of USERRA is: (1) to minimize disruption to the lives of persons who perform service in the uniformed services (including the National Guard and Reserves), as well as to their employers, their fellow employees, and their communities, by providing for prompt reemployment of such persons upon completion of such service; (2) to encourage individuals to participate in uniformed service by eliminating and minimizing the disadvantages to civilian careers and employment which can result from such service; and (3) to prohibit discrimination in employment and acts of reprisal against persons because of their obligations in the uniformed services, prior service, intention to join the uniformed services, filing of a USERRA claim, seeking assistance concerning an alleged USERRA violation, testifying in a proceeding, or otherwise assisting in an investigation of a USERRA claim. The Veterans Employment Opportunities Act (VEOA) of 1998, Public Law 105-339, 12 Stat. 3182, contained in Title 5 U.S.C. 3330a-3330c, authorizes the Secretary of Labor to provide assistance to preference eligible individuals who believe their rights under the veterans' preference laws have been violated, and to investigate claims filed by those individuals. The purpose of VP and VEOA is: (1) to provide preference for certain veterans over others in Federal hiring from competitive lists of applicants; (2) to allow access to Federal job opportunities to veterans that might otherwise be closed to the public; and (3) to provide preference eligible veterans with preference over others in retention during reductions in force (RIF) in Federal agencies.

Purpose of Request: DOL seeks PRA authorization to extend this information collection for three (3) years. OMB authorization for an ICR cannot be for more than three (3) years without renewal. The DOL notes that information collection requirements submitted to the OMB for existing ICRs receive a month-to-month extension while they undergo review.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-VETS.

Type of Review: Extension without revision.

Title of Collection: Eligibility Data Form: Uniformed Services Employment and Reemployment Rights Act and Veterans' Preference.

OMB Control Number: 1293-0002.

Form: VETS/USERRA/VP (VETS-1010 Form).

Affected Public: Individuals or households.

Total Estimated Number of Respondents: 2,250.

Frequency: On occasion.

Total Estimated Number of Responses: 2,250.

Estimated Average Time per Response: 45 minutes, including 10 minutes estimated to collect the information needed to file a USERRA or VP claim, and 35 minutes estimated to complete the form.

Total Estimated Burden Hours: 1,688 hours.

Total Estimated Other Burden Costs (Operating and Maintenance): $0.

(Authority: 44 U.S.C. 3506(c)(2)(A)).

Dated: January 22, 2026.
Jeremiah Workman,
Assistant Secretary, Veterans' Employment and Training Service, U.S. Department of Labor.

[FR Doc. 2026-01416 Filed 1-23-26; 8:45 am]

BILLING CODE 4510-79-P